DEPARTMENT OF TRANSPORTATION

National Highway Traffic Safety Administration

[Docket No. NHTSA-2016-0143; Notice 1]

Mercedes-Benz USA, LLC, Receipt of Petition for Decision of Inconsequential Noncompliance

AGENCY: National Highway Traffic Safety Administration (NHTSA), Department of Transportation (DOT).

ACTION: Receipt of petition.

SUMMARY: Mercedes-Benz USA, LLC (MBUSA) on behalf of itself and its parent company Daimler AG (DAG), has determined that certain model year (MY) 2016 and 2017 Mercedes-Benz GLE and GLS-Class motor vehicles do not fully comply with Federal Motor Vehicle Safety Standard (FMVSS) No. 110, Tire selection and rims and motor home/recreation vehicle trailer load carrying capacity information for motor vehicles with a GVWR of 4,536 kilograms (10,000 pounds) or Less. MBUSA filed a noncompliance information report dated December 12, 2016. MBUSA also petitioned NHTSA on December 22, 2016, for a decision that the subject noncompliance is inconsequential as it relates to motor vehicle safety.

DATES: The closing date for comments on the petition is May 11, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Mercedes-Benz USA, LLC (MBUSA), has determined that certain model year (MY) 2016 and 2017 Mercedes-Benz GLE and GLS-Class motor vehicles do not fully comply with paragraph S4.3 of Federal Motor Vehicle Safety Standard (FMVSS) No. 110, Tire selection and rims and motor home/recreation vehicle trailer load carrying capacity information for motor vehicles with a GVWR of 4,536 kilograms (10,000 pounds) or Less. MBUSA filed a noncompliance information report dated December 12, 2016, pursuant to 49 CFR part 573, Defect and Noncompliance Responsibility and Reports. MBUSA also petitioned NHTSA on December 22, 2016, pursuant to 49 U.S.C. 30118(d) and 30120(h) and 49 CFR part 556, for an exemption from the notification and remedy requirements of 49 U.S.C. Chapter 301 on the basis that this noncompliance is inconsequential as it relates to motor vehicle safety.

This notice of receipt of MBUSA's petition is published under 49 U.S.C. 30118 and 30120 and does not represent any agency decision or other exercise of judgment concerning the merits of the petition.

II. Vehicles Involved: Approximately 142 of the following Mercedes-Benz GLE and GLS-Class motor vehicles manufactured on June 14 and June 15, 2016, are potentially involved:

• 2016 Mercedes-Benz GLE300d 4Matic

• 2016 Mercedes-Benz GLE350

• 2016 Mercedes-Benz GLE350 4Matic

• 2016 Mercedes-Benz GLE400 4Matic

• 2016 Mercedes-Benz GLE550e 4Matic

• 2016 Mercedes-Benz GLE63S AMG 4Matic

• 2017 Mercedes-Benz GL450 4Matic

• 2017 Mercedes-Benz GL550 4Matic

III. Noncompliance: MBUSA explains that the noncompliance is that the tire information placard affixed to the driver's side B-pillar on the subject vehicles was improperly printed and therefore does not meet the requirements of paragraph S4.3 of FMVSS No. 110. Specifically, the column identifying whether the tire is front, rear, or spare might not be completely legible.

IV. Rule Text: paragraph S4.3 of FMVSS No. 110 states:

S4.3 Placard. Each vehicle, except for a trailer or incomplete vehicle shall show the information specified in S4.3 (a) through (g), and may show, at the manufacturer's option, the information specified in S4.3 (h) and (i), on a placard permanently affixed to the driver's side B-pillar. . . . This information shall be in the English language and conform in color and format, not including the border surrounding the entire placard, as shown in the example set forth in Figure 1 in this standard . . .

(c) Vehicle manufacturer's recommended cold tire inflation pressure for front, rear and spare tires . . .

(d) Tire size designation, indicated by the headings “size” or “original tire size” or “original size” and “spare tire” or “spare,” for the tires installed at the time of first purchase for purposes other than resale . . .

V. Summary of MBUSA's Petition: MBUSA described the subject noncompliance and stated its belief that the noncompliance is inconsequential as it relates to motor vehicle safety.

In support of its petition, MBUSA submitted the following reasoning:

1. The row names “front/rear/spare” might not be completely legible, but the tire dimensions and pressure values are legible and correct.

2. The data, including the “front/rear/spare” designations, is also available on the tank flap to the gas tank (also referred to as the “filler flap”).

3. After identifying the potentially noncompliant B-pillar tire information placards, DAG analyzed potential technical implications, specifically with respect to the requirements of FMVSS No. 110, and did not identify any technical implications since the label remains substantially legible and the same information is provided elsewhere on the vehicle.

4. MBUSA has received neither customer complaints nor information about any accidents or injuries alleged to have occurred as a result of this noncompliance.

5. DAG has correct labels in production as of June 15, 2016.

MBUSA concluded by expressing the belief that the subject noncompliance is inconsequential as it relates to motor vehicle safety, and that its petition to be exempted from providing notification of the noncompliance, as required by 49 U.S.C. 30118, and a remedy for the noncompliance, as required by 49 U.S.C. 30120, should be granted.

To view MBUSA's petition analyses in its entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that MBUSA no longer controlled at the time it determined that the noncompliance existed. However, any decision on this petition does not relieve vehicle distributors and dealers of the prohibitions on the sale, offer for sale, or introduction or delivery for introduction into interstate commerce of the noncompliant vehicles under their control after MBUSA notified them that the subject noncompliance existed.

Authority: (49 U.S.C. 30118, 30120: Delegations of authority at 49 CFR 1.95 and 501.8)

Jeffrey M. Giuseppe,
Director, Office of Vehicle Safety Compliance.

[FR Doc. 2017-07167 Filed 4-10-17; 8:45 am]

BILLING CODE 4910-59-P